FEDERAL ELECTION COMMISSION

[Notice 2016-01]

Price Index Adjustments for Expenditure Limitations and Lobbyist Bundling Disclosure Threshold

AGENCY: Federal Election Commission.

ACTION: Notice of adjustments to expenditure limitations and lobbyist bundling disclosure threshold.

SUMMARY: As mandated by provisions of the Federal Election Campaign Act (“the Act”), the Federal Election Commission (“the Commission”) is adjusting certain expenditure limitations and the lobbyist bundling disclosure threshold set forth in the Act, to index the amounts for inflation. Additional details appear in the supplemental information that follows.

DATES: Effective date: January 1, 2016.

FOR FURTHER INFORMATION CONTACT: Ms. Elizabeth S. Kurland, Information Division, 999 E Street NW., Washington, DC 20463; (202) 694-1100 or (800) 424-9530.

SUPPLEMENTARY INFORMATION: Under the Federal Election Campaign Act, 52 U.S.C. 30101-46, coordinated party expenditure limits (52 U.S.C. 30116(d)(2)-(3)) and the disclosure threshold for contributions bundled by lobbyists (52 U.S.C. 30104(i)(3)(A)) are adjusted periodically to reflect changes in the consumer price index. See 52 U.S.C. 30104(i)(3), 30116(c)(1); 11 CFR 109.32, 110.17(a), (f). The Commission is publishing this notice to announce the adjusted limits and disclosure threshold for 2016.

Coordinated Party Expenditure Limits for 2016

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974). 52 U.S.C. 30116(c).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (4.80703), rounding to the nearest $100. See 52 U.S.C. 30116(c)(1)(B), (d)(3)(B); 11 CFR 109.32(b), 110.17. Based upon this formula, the expenditure limitation for 2016 general elections for House candidates in these states, districts, and territories is $48,100.

¹ Currently, these are the Commonwealth of Puerto Rico, and the territories of American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 4.80703 (which totals $96,100); or $0.02 multiplied by the VAP of the state, multiplied by 4.80703. Amounts are rounded to the nearest $100. See 52 U.S.C. 30116(c)(1)(B), (d)(3)(A); 11 CFR 109.32(b), 110.17. The chart below provides the state-by-state breakdown of the 2016 general election expenditure limitation for Senate elections. The expenditure limitation for 2016 House elections in states with only one congressional district ² is $96,100.

² Currently, these states are: Alaska, Delaware, Montana, North Dakota, South Dakota, Vermont and Wyoming. See http://www.house.gov/representatives/.

Senate General Election Coordinated Expenditure Limits—2016 Elections
State | Voting age population (VAP) | VAP × .02 × the price index (4.80703) | Senate expenditure limit (the greater of the amount in column 3 or $96,100)
Alabama | 3,755,483 | $361,100 | $361,100
Alaska | 552,166 | 53,100 | 96,100
Arizona | 5,205,215 | 500,400 | 500,400
Arkansas | 2,272,904 | 218,500 | 218,500
California | 30,023,902 | 2,886,500 | 2,886,500
Colorado | 4,199,509 | 403,700 | 403,700
Connecticut | 2,826,827 | 271,800 | 271,800
Delaware | 741,548 | 71,300 | 96,100
Florida | 16,166,143 | 1,554,200 | 1,554,200
Georgia | 7,710,688 | 741,300 | 741,300
Hawaii | 1,120,770 | 107,800 | 107,800
Idaho | 1,222,093 | 117,500 | 117,500
Illinois | 9,901,322 | 951,900 | 951,900
Indiana | 5,040,224 | 484,600 | 484,600
Iowa | 2,395,103 | 230,300 | 230,300
Kansas | 2,192,084 | 210,700 | 210,700
Kentucky | 3,413,425 | 328,200 | 328,200
Louisiana | 3,555,911 | 341,900 | 341,900
Maine | 1,072,948 | 103,200 | 103,200
Maryland | 4,658,175 | 447,800 | 447,800
Massachusetts | 5,407,335 | 519,900 | 519,900
Michigan | 7,715,272 | 741,800 | 741,800
Minnesota | 4,205,207 | 404,300 | 404,300
Mississippi | 2,265,485 | 217,800 | 217,800
Missouri | 4,692,196 | 451,100 | 451,100
Montana | 806,529 | 77,500 | 96,100
Nebraska | 1,425,853 | 137,100 | 137,100
Nevada | 2,221,681 | 213,600 | 213,600
New Hampshire | 1,066,610 | 102,500 | 102,500
New Jersey | 6,959,192 | 669,100 | 669,100
New Mexico | 1,588,201 | 152,700 | 152,700
New York | 15,584,974 | 1,498,300 | 1,498,300
North Carolina | 7,752,234 | 745,300 | 745,300
North Dakota | 583,001 | 56,100 | 96,100
Ohio | 8,984,946 | 863,800 | 863,800
Oklahoma | 2,950,017 | 283,600 | 283,600
Oregon | 3,166,121 | 304,400 | 304,400
Pennsylvania | 10,112,229 | 972,200 | 972,200
Rhode Island | 845,254 | 81,300 | 96,100
South Carolina | 3,804,558 | 365,800 | 365,800
South Dakota | 647,145 | 62,200 | 96,100
Tennessee | 5,102,688 | 490,600 | 490,600
Texas | 20,257,343 | 1,947,600 | 1,947,600
Utah | 2,083,423 | 200,300 | 200,300
Vermont | 506,119 | 48,700 | 96,100
Virginia | 6,512,571 | 626,100 | 626,100
Washington | 5,558,509 | 534,400 | 534,400
West Virginia | 1,464,532 | 140,800 | 140,800
Wisconsin | 4,476,711 | 430,400 | 430,400
Wyoming | 447,212 | 43,000 | 96,100

3. Expenditure Limitation for President

The national party committees have an expenditure limitation for their general election nominee for President. 52 U.S.C. 30116(d)(2). The formula used to calculate the Presidential expenditure limitation considers not only the price index but also the total VAP of the United States. The VAP figure used to calculate the expenditure limitation was certified by the U.S. Census Bureau. The U.S. Department of Commerce also publishes the total VAP of the United States annually. 11 CFR 110.18. The formula used to calculate this expenditure limitation is $0.02 multiplied by the total VAP of the United States (247,773,709), multiplied by the price index, 4.80703. Amounts are rounded to the nearest $100. See 52 U.S.C. 30116(d)(2) and 11 CFR 109.32(a). Based upon this formula, the expenditure limitation for 2016 Presidential nominees is $23,821,100.

Limitations on Contributions by Individuals, Non-Multicandidate Committees and Certain Political Party Committees Giving to U.S. Senate Candidates and National Party Committees for the 2015-2016 Election Cycle

For the convenience of the readers, the Commission is also republishing the contribution limitations for individuals, non-multicandidate committees and for certain political party committees giving to U.S. Senate candidates and national party committees for the 2015-2016 election cycle:

Statutory provision | Statutory amount | 2015-2016 limit
52 U.S.C. 30116(a)(1)(A) | $2,000 | $2,700
52 U.S.C. 30116(a)(1)(B) | 25,000 | 33,400
52 U.S.C. 30116(h) | 35,000 | 46,800

Lobbyist Bundling Disclosure Threshold for 2016

The Act requires certain political committees to disclose contributions bundled by lobbyists/registrants and lobbyist/registrant political action committees once the contributions exceed a specified threshold amount. 52 U.S.C. 30104(i)(1), (3)(A). The Commission must adjust this threshold amount annually to account for inflation. The disclosure threshold is increased by multiplying the $15,000 statutory disclosure threshold by 1.17569, the difference between the price index, as certified to the Commission by the Secretary of Labor, for the 12 months preceding the beginning of the calendar year and the price index for the base period (calendar year 2006). The resulting amount is rounded to the nearest multiple of $100. See 52 U.S.C. 30104(i)(3), 30116(c)(1)(B); 11 CFR 104.22(g). Based upon this formula ($15,000 × 1.17569), the lobbyist bundling disclosure threshold for calendar year 2016 is $17,600, unchanged from 2015.

On behalf of the Commission.
Dated: February 3, 2016.
Matthew S. Petersen,
Chairman, Federal Election Commission.

[FR Doc. 2016-02627 Filed 2-9-16; 8:45 am]

BILLING CODE 6715-01-P